DEPARTMENT OF LABOR

Employment and Training Administration

[NAFTA-5913]

JDS Uniphase, Electro-Optic Products Division, Bloomfield, Connecticut; Amended Certification Regarding Eligibility To Apply for NAFTA-Transitional Adjustment Assistance

In accordance with Section 250(a), Subchapter D, Chapter 2, Title II, of the Trade Act of 1974, as amended (19 U.S.C. 2273), the Department of Labor issued a Certification of Eligibility to Apply for NAFTA Transitional Adjustment Assistance on March 19, 2002, applicable to all workers of JDS Uniphase, Electro-Optic Products Division, located in Bloomfield, Connecticut. The notice was published in the Federal Register on March 29, 2002. (67 FR 15227).

At the request of the State agency, the Department reviewed the certification for workers of the subject firm. The certification covering all workers JDS Uniphase, Electro-Optic Products Division, Bloomfield, Connecticut, was based on the finding that production of SN switches was shifted from that plant to Canada, and workers were not separately identifiable from those producing other articles at the plant.

An official of the company reports that workers producing the SN switches are separately identifiable by product.

The intent of the Department's certification is to include only those workers of JDS Uniphase, Elector-Optic Products Division, Bloomfield, Connecticut, adversely affected by the shift in production of SN switches to Canada. Accordingly, the Department is amending the certification to limit the worker group coverage to those engaged in activities related to the production of SN switches.

The amended notice applicable to NAFTA-5913 is hereby issued as follows:

All workers engaged in activities related to the production of SN switches at JDS Uniphase, Electro-Optic Products Division, Bloomfield, Connecticut, who became totally or partially separated from employment on or after February 12, 2001 through March 19, 2004, are eligible to apply for NAFTA-TAA under Section 250 of the Trade Act of 1974.

Signed in Washington, DC, this 5th day of April, 2002.
Linda G. Poole,
Certifying Officer, Division of Trade Adjustment Assistance.

[FR Doc. 02-10053 Filed 4-23-02; 8:45 am]

BILLING CODE 4510-30-M